FEDERAL MARITIME COMMISSION

[Docket No. 24-17]

Samsung Electronics America, Inc., Complainant v. Orient Overseas Container Line Limited and OOCL (Europe) Limited, Respondents; Notice of Filing of Complaint and Assignment

Served: March 28, 2024.

Notice is given that a complaint has been filed with the Federal Maritime Commission (the “Commission”) by Samsung Electronics America, Inc. (the “Complainant”) against Orient Overseas Container Line Limited and OOCL (Europe) Limited (the “Respondents”). Complainant states that the Commission has subject matter jurisdiction over this complaint pursuant to the Shipping Act of 1984, as amended, 46 U.S.C. 40101 et seq. and personal jurisdiction over the Respondents as common carriers and as vessel-operating ocean common carriers as these terms are defined in 46 U.S.C. 40102.

Complainant is a corporation organized and existing under the laws of the State of New York with a principal place of business in Ridgefield Park, New Jersey.

Complainant identifies Respondent Orient Overseas Container Line Limited as a company existing under the laws of Hong Kong with its principal place of business in Wanchai, Hong Kong whose agent in the United States is OOCL (USA) Inc. with its principal place of business in South Jordan, Utah.

Complainant identifies Respondent OOCL (Europe) Limited as a company existing under the laws of United Kingdom with its principal place of business in Levington, Suffolk, United Kingdom whose agent in the United States is OOCL (USA) Inc. with its principal place of business in South Jordan, Utah.

Complainant alleges that Respondents violated 46 U.S.C. 41102(c) and (d), and 41104(a)(3), (10), (14), and (15); and 46 CFR 545.4 and 545.5. Complainant alleges these violations arose from a failure to perform and a delay in performance of inland transportation obligations on “store door” shipments, and other acts and omissions of the Respondents, that resulted in damages, such as unreasonable costs, demurrage and detention charges, and delay.

An answer to the complaint must be filed with the Commission within 25 days after the date of service.

The full text of the complaint can be found in the Commission's electronic Reading Room at https://www2.fmc.gov/readingroom/proceeding/24-17/. This proceeding has been assigned to the Office of Administrative Law Judges. The initial decision of the presiding judge shall be issued by March 28, 2025, and the final decision of the Commission shall be issued by October 14, 2025.

David Eng,
Secretary.

[FR Doc. 2024-06925 Filed 4-1-24; 8:45 am]

BILLING CODE 6730-02-P